DEPARTMENT OF HOUSING AND URBAN DEVELOPMENT

[Docket No. FR-5041-N-17]

Notice of Proposed Information Collection: Comment Request; Single Family Housing Lead Disclosure Requirements and Addendum Format

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: July 24, 2006.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 8001, Washington, DC 20410 or Lillian_Deitzer@hud.gov.

FOR FURTHER INFORMATION CONTACT: Ivery Himes, Division Director, Office of Single Family Asset Management, Department of Housing and Urban Development, 451 7th Street, SW., Washington, DC 20410, telephone (202) 708-0614 x5628 (this is not a toll free number) for copies of the proposed forms and other available information.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Lead Disclosure Rule Compliance Procedures for HUD-Owned Single Family Properties.

OMB Control Number, if applicable: 2502-New.

Description of the need for the information and proposed use: HUD, its M&M contractors, and the selling brokers working with the Department in the sale of HUD-owned properties must fully comply with the requirements of the Lead Disclosure rule (24 CFR part 35, subpart A) with respect to the sale of all properties constructed before 1978. This rule requires that the disclosure form provide a lead warning statement, as well as Seller, Purchaser, and Broker acknowledgements and signatures. Due to the Lead Safe Housing Rule requiring stabilization of FHA insured properties, another item on the form indicates the financing and subsequent requirements.

Agency form numbers, if applicable: HUD-9545-Y and HUD-9545-Z.

Estimation of the total numbers of hours needed to prepare the information collection including number of respondents, frequency of response, and hours of response: The number of burden hours is 23,284. The number of respondents is 137,077 submitting 137,077 responses annually, the frequency of response is on occasion, and the burden per response varies from six to twelve minutes.

Status of the proposed information collection: This is a new collection.

Authority: The Paperwork Reduction Act of 1995, 44 U.S.C., Chapter 35, as amended.

Dated: May 18, 2006.
Frank L. Davis,
General Deputy Assistant Secretary for Housing-Deputy Federal Housing Commissioner.

[FR Doc. E6-7994 Filed 5-24-06; 8:45 am]

BILLING CODE 4210-67-P